DEPARTMENT OF ENERGY

Federal Energy Regulatory Commission

Notice of Staff Attendance at North American Electric Reliability Corporation Working Group and Standard Drafting Meetings

The Federal Energy Regulatory Commission hereby gives notice that members of the Commission and/or Commission staff may attend the following meetings:

North American Electric Reliability Corporation: System Planning Impacts from DER Working Group, WebEx

April 30, 2024 | 9:00 a.m.-5:00 p.m. Eastern

May 1, 2024 | 9:00 a.m.-5:00 p.m. Eastern

Further information regarding this meeting may be found at: https://www.nerc.com/comm/RSTC/SPIDERWG/SPIDERWG_May_Agenda.pdf.

North American Electric Reliability Corporation: Project 2022-02 Modifications to PRC-024 (Generator Ride-through) and Project 2023-02 Analysis and Mitigation of BES IBR Performance Issues Joint Drafting Team Meeting, Hybrid

May 7, 2023 | 8:30 a.m.-4:30 p.m. Eastern (Joint Meeting)

North American Electric Reliability Corporation: Project 2022-02 Modifications to PRC-024 (Generator Ride-through) Standard Drafting Team Meeting, Hybrid

May 8, 2023 | 8:30 a.m.-4:30 p.m. Eastern

May 9, 2023 | 8:30 a.m.-4:30 p.m. Eastern

North American Electric Reliability Corporation: Project 2023-02 Analysis and Mitigation of BES Inverter-Based Resource Performance Issues Standard Drafting Team Meeting, Hybrid

May 8, 2023| 9:00 a.m.-5:00 p.m. Eastern

May 9, 2023 | 9:00 a.m.-5:00 p.m. Eastern

Further information regarding these meetings and how to join remotely may be found at: http://www.nerc.com/Pages/Calendar.aspx.

The discussions at the meetings, which are open to the public, may address matters at issue in the following Commission proceedings:

Docket No. RR24-2-000 North American Electric Reliability Corporation

For further information, please contact Leigh Anne Faugust (202) 502-6396 or leigh.faugust@ferc.gov.

Dated: April 22, 2024.
Debbie-Anne A. Reese,
Acting Secretary.

[FR Doc. 2024-08993 Filed 4-25-24; 8:45 am]

BILLING CODE 6717-01-P